GENERAL SERVICES ADMINISTRATION

41 CFR Parts 301-10, 301-11, and 301-70

[FTR Amendment 2010-04; FTR Case 2010-305; Docket 2010-0017; Sequence 1]

RIN 3090-AJ07

Federal Travel Regulation; Miscellaneous Amendments

AGENCY: Office of Governmentwide Policy, General Services Administration (GSA).

ACTION: Final rule.

SUMMARY: This final rule amends the Federal Travel Regulation (FTR) by updating statutory references in a number of sections, by providing additional guidance for determining distance measurements when traveling by privately owned aircraft, by clarifying provisions regarding the use of personally owned vehicles (POV) for official travel, by updating the addresses to which per diem review requests should be sent, and by changing the method by which agencies must report the use of Government aircraft to carry senior Federal officials and non-Federal travelers.

DATES: Effective Date: This final rule is effective September 27, 2010.

Applicability Date: This final rule is applicable for official travel performed on or after October 27, 2010.

FOR FURTHER INFORMATION CONTACT: The Regulatory Secretariat (MVCB), Room 4041, GS Building, Washington, DC 20405, (202) 501-4755, for information pertaining to status or publication schedules. For clarification of content, contact Mr. Cy Greenidge, Program Analyst, Office of Governmentwide Policy, at (202) 219-2349. Please cite FTR Amendment 2010-XX; FTR case 2010-305.

SUPPLEMENTARY INFORMATION:

A. Background

This amendment updates statutory references concerning when travel on Government aircraft is not reported; adds additional guidance for determining distance measurements when traveling on official business by privately owned aircraft; amends the heading regarding POV mileage reimbursement between an employee's residence, office and/or common carrier; updates the addresses for submitting per diem review requests; requires agencies to use an electronic reporting tool to report travel on Government aircraft by senior Federal officials and non-Federal travelers; and updates statutory references in certain sections.

Accordingly, this final rule amends the FTR by:

1. Sections 301-10.261, 301-10.264, and 301-10.265—Updating statutory references.

2. Section 301-10.302—Revising the information to determine distance measurements when traveling by privately owned aircraft in conjunction with official travel.

3. Section 301-10.306—Revising the question portion to clarify what an employee will be reimbursed if authorized to use a POV between the employee's residence, office and/or common carrier terminal.

4. Section 301-11.26—Updating the chart with current address information.

5. Sections 301-70.801, 301-70.803, 301-70.804, and 301-70.902—Updating statutory references.

6. Section 301-70.906—Updating the requirement of agencies to report the use of Government aircraft to carry senior Federal officials and non-Federal travelers by using an electronic reporting tool and updating a statutory reference.

B. Executive Order 12866

This is not a significant regulatory action and, therefore, was not subject to review under Section 6(b) of Executive Order 12866, Regulatory Planning and Review, dated September 30, 1993. This final rule is not a major rule under 5 U.S.C. 804.

C. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553(a)(2) because it applies to agency management or personnel. However, this final rule is being published to provide transparency in the promulgation of Federal policies.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from Congressional review prescribed under 5 U.S.C. 801 since it relates solely to agency management and personnel.

List of Subjects in 41 CFR Parts 301-10, 301-11, and 301-70

Government employees, Travel, Transportation and Per Diem expenses, Administrative practices and procedures.

Dated: August 3, 2010.
Martha Johnson,
Administrator of General Services.

For the reasons set forth in the preamble, under 5 U.S.C. 5701-5709, GSA amends 41 CFR parts 301-10, 301-11, and 301-70 as set forth below:

PART 301-10—TRANSPORTATION EXPENSES

1. The authority citation for 41 CFR part 301-10 continues to read as follows:

Authority: 5 U.S.C. 5707, 40 U.S.C. 121(c); 49 U.S.C. 40118, OMB Circular No. A-126, revised May 22, 1992.

§ 301-10.261 [Amended]

2. Amend § 301-10.261 by removing from paragraph (c)(3) “10 U.S.C. 4744” and adding “10 U.S.C. 2648” in its place.

§ 301-10.264 [Amended]

3. Amend § 301-10.264 by removing from paragraph (b)(2) “10 U.S.C. 4744” and adding “10 U.S.C. 2648” in its place.

§ 301-10.265 [Amended]

4. Amend § 301-10.265 by removing “10 U.S.C. 6744” and adding “10 U.S.C. 2648” in its place.

§ 301-10.302 [Amended]

5. Amend the table in § 301-10.302 in the second column, in the second entry, by adding “You must convert nautical miles to statute or regular miles when submitting a claim (1 nautical mile equals 1.15077945 statute miles).” after the third sentence.

6. Revise the heading of § 301-10.306 to read as follows:

§ 301-10.306 What will I be reimbursed if authorized to use a POV between my residence and office and then from my office to a common carrier terminal, or from my residence directly to a common carrier terminal?

* * * * *

PART 301-11—PER DIEM EXPENSES

7. The authority citation for 41 CFR part 301-11 continues to read as follows:

Authority: 5 U.S.C. 5707.

8. Amend § 301-11.26 by revising the table to read as follows:

§ 301-11.26 How do I get a per diem rate increased?

* * * * *

For CONUS locations | For non-foreign area locations | For foreign area locations
General Services Administration, Office of Governmentwide Policy, Attn: Travel Policy (MTT), 1800 F St. NW., Washington, DC 20405 | Defense Travel Management Office, Attn: SP&P/Allowances Branch, 4601 N. Fairfax Dr, Suite 800, Arlington, VA 22203 | Director, Office of Allowances, Department of State, Annex 1, Suite L-314, Washington, DC 20522-0103.

PART 301-70—INTERNAL POLICY AND PROCEDURE REQUIREMENTS

9. The authority citation for 41 CFR part 301-70 continues to read as follows:

Authority: 5 U.S.C. 5707; 40 U.S.C. 121(c); Sec. 2, Pub. L. 105-264, 112 Stat. 2350 (5 U.S.C. 5701, note), OMB Circular No. A-126, revised May 22, 1992, and OMB Circular No. A-123, Appendix B, revised January 15, 2009.

§ 301-70.801 [Amended]

10. Amend § 301-70.801 in paragraph (c)(3) by removing “10 U.S.C. 4744” and adding “10 U.S.C. 2648” in its place.

§ 301-70.803 [Amended]

11. Amend § 301-70.803 in paragraph (d)(2) by removing “10 U.S.C. 4744” and adding “10 U.S.C. 2648” in its place.

§ 301-70.804 [Amended]

12. Amend § 301-70.804 in paragraph (b)(2) by removing “10 U.S.C. 4744” and adding “10 U.S.C. 2648” in its place.

13. Revise § 301-70.906 to read as follows:

§ 301-70.906 Must we report use of our Government aircraft to carry senior Federal officials and non-Federal travelers?

Yes, except when the trips are classified, you must report to GSA's Office of Governmentwide Policy (MTT) all uses of your aircraft for travel by any senior Federal official or non-Federal traveler, by using an electronic reporting tool found at http://www.gsa.gov/sftr, unless travel is authorized under 10 U.S.C. 2648 and regulations implementing that statute.

[FR Doc. 2010-23882 Filed 9-24-10; 8:45 am]

BILLING CODE 6820-14-P